Proclamation 7938 of September 30, 2005

National Domestic Violence Awareness Month, 2005

By the President of the United States of America

A Proclamation

Domestic violence is a great evil and an offense against human dignity that shatters lives and robs children of their innocence. Where it occurs, homes are transformed into places of danger and despair. During National Domestic Violence Awareness Month, we renew our commitment to preventing domestic violence.

We are making progress in the fight against violence in the home. Over the past decade, the domestic violence rate has declined by an estimated 59 percent. But much work remains to be done. My Administration remains committed to preventing domestic abuse by supporting victims and punishing offenders. We have secured historic levels of funding for the Violence Against Women programs at the Department of Justice, presided over an increase in Federal prosecutions for crimes of violence against women, and implemented a program to help fund transitional housing for victims fleeing domestic abuse.

To increase access to comprehensive support and services for victims of domestic violence, in 2003 I announced the creation of the Family Justice Center Initiative. These centers bring together police officers, attorneys, counselors, doctors, victims' advocates, chaplains, and others so that domestic violence victims can more easily find the help and support they need. The Department of Justice has awarded over $20 million to support the creation of 15 Family Justice Centers across the country, and several of these centers have already opened their doors and are making a difference in victims' lives.

Faith-based and community organizations are also making vital contributions in the effort to combat domestic violence. These organizations are fostering an environment where victims can step out of the shadows and get the help and care they need. Through initiatives like the Faith-Based and Community Organization Rural Pilot Program and the Safe and Bright Futures for Children Initiative, the Departments of Justice and Health and Human Services are providing funding to support these organizations in their life-changing work.

I appreciate all those who work to end domestic violence and to protect vulnerable members of our society. By working together, we continue to build a society that respects the life and dignity of every person.

NOW, THEREFORE, I, GEORGE W. BUSH, President of the United States of America, by virtue of the authority vested in me by the Constitution and laws of the United States, do hereby proclaim October 2005 as National Domestic Violence Awareness Month. I urge all Americans to reach out to help victims of domestic violence and help to make ending domestic violence a national priority.

IN WITNESS WHEREOF, I have hereunto set my hand this thirtieth day of September, in the year of our Lord two thousand five, and of the Independence of the United States of America the two hundred and thirtieth.

B

[FR Doc. 05-20154

Filed 10-4-05; 9:56 am]

Billing code 3195-01-P